DEPARTMENT OF VETERANS AFFAIRS

[OMB Control No. 2900-0843]

Agency Information Collection Activity: VHA Homeless Programs—Project CHALENG (Community Homelessness Assessment, Local Education and Networking Groups) for Veterans

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before August 23, 2024.

ADDRESSES: Comments must be submitted through www.regulations.gov.

FOR FURTHER INFORMATION CONTACT:

Program-Specific information: Rebecca Mimnall, 202-695-9434, vhacopra@va.gov.

VA PRA information: Maribel Aponte, 202-461-8900, vacopaperworkreduact@va.gov.

SUPPLEMENTARY INFORMATION:

Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: VHA Homeless Programs—Project CHALENG (Community Homelessness Assessment, Local Education and Networking Groups) for Veterans.

OMB Control Number: 2900-0843. https://www.reginfo.gov/public/do/PRASearch (Once at this link, you can enter the OMB Control Number to find the historical versions of this Information Collection).

Type of Review: Revision of a currently approved collection.

Abstract: Department of Veterans Affairs (VA) launched Project CHALENG (Community Homelessness Assessment, Local Education and Networking Groups) for Veterans in 1993 in response to Public Law 102-405, which required VA to make an assessment of the needs of homeless Veterans in coordination with other Federal departments, state and local government agencies, and nongovernmental agencies with experience working with homeless persons. Since 1993, VA has administered a needs assessment in accordance with guidance in Public Law 103-446 and Public Law 105-114. Legal authority for this data collection is found under 38 U.S.C. 527 that authorizes the collection of data that will allow measurement and evaluation of the Department of Veterans Affairs Programs, the goal of which is improved health care for Veterans.

This collection of information is necessary to ensure that VA and community partners are developing services that are responsive to the needs of local homeless Veterans, in order to end homelessness and prevent new Veterans from experiencing homelessness. Over the years, data from CHALENG has assisted VA in developing new services for Veterans, such as the Homeless Veteran Dental Program (HVDP), the expansion of the Department of Housing and Urban Development-VA Supportive Housing (HUD-VASH) Program, the Veterans Justice Programs and Supportive Services for Veteran Families (SSVF). In addition, community organizations use CHALENG data in grant applications to support services for homeless Veterans; these grant applications are for VA, other Federal, local government, and community foundation dollars, which maximize community participation in serving homeless Veterans.

This collection will be a renewal of the collection approved in 2021. No revisions have been made to the questions; however, revisions to the burden hours are based upon the number of respondents in the previous year. The collection consists of two survey forms: one for Veterans (VA Form 10-10161) and one for VA staff members, community homeless providers, and interested community members (VA Form 10-10162). The only differences between the two survey forms are the introductory demographic questions; otherwise, the survey is the same for both groups.

Affected Public: Individuals and Households.

Estimated Annual Burden: Total = 620 hours.

Veteran Survey (VA Form 10-10161): 300 hours.

Provider Survey (VA Form 10-10162): 320 hours.

Estimated Average Burden per Respondent:

Veteran Survey: 6 minutes.

Provider Survey: 6 minutes.

Frequency of Response: Once annually.

Estimated Number of Respondents: 6,200 total.

Veteran Survey: 3,000.

Provider Survey: 3,200.

Authority: 44 U.S.C. 3501 et seq.

Maribel Aponte,
VA PRA Clearance Officer, Office of Enterprise and Integration/Data Governance Analytics, Department of Veterans Affairs.

[FR Doc. 2024-13757 Filed 6-21-24; 8:45 am]

BILLING CODE 8320-01-P